DEPARTMENT OF VETERANS AFFAIRS

Veterans' Family, Caregiver, and Survivor Advisory Committee, Notice of Meeting

The Department of Veterans Affairs (VA) gives notice under the Federal Advisory

Committee Act (FACA), 5 U.S.C. Ch. 10, that the Veterans' Family, Caregiver, and Survivor Advisory Committee will meet in-person and virtually on Wednesday, May 1, 2024. The meeting location is The American Legion, 1608 K Street NW, Washington, DC 20006. The meeting sessions will begin and end as follows:

Date | Time
May 1, 2024 | 8 a.m. to 4 p.m. Eastern Standard Time (EST).

The meeting is open to the public and will also be available virtually via Microsoft Teams.

The purpose of the Committee is to provide advice to the Secretary of Veterans Affairs with respect to the administration of benefits by VA for services to Veterans' families, caregivers, and survivors.

On Wednesday, May 1, 2024, the agenda will include opening remarks from the Executive Director, Caregiver Support Program, the Survivors' Assistance and Memorial Support Program (SAMS), Veterans Health Administration, the Office of Survivor Assistance, Veterans Benefits Administration, and briefings from the subcommittee chairs.

Time will be allocated for receiving public comments to the committee at 2:45 p.m. to 3:45 p.m. (EST). Individuals wishing to make public comments should contact Dr. Betty Moseley Brown, Designated Federal Officer at (210) 392-2505 or VHA12CSPFAC@va.gov and must submit a 1 to 2-page summary of their comments for inclusion in the official meeting record. In the interest of time and to accommodate more speakers each speaker will be held to a 3-minute time limit. Each public speaker will receive a confirmed time for speaking via email from the Designated Federal Officer. Additionally, the Committee will accept written comments from interested parties on relevant issues until Friday, April 26, 2024, at 5 p.m. (EST). Public transportation is strongly encouraged as there is limited street parking or paid public parking garages in the vicinity.

All virtual attendees must register with the Designated Federal Officer at VHA12CSPFAC@va.gov and request the meeting link by Monday, April 29, 2024. Anyone seeking additional information should contact Dr. Betty Moseley Brown, at (210) 392-2505 or Betty.MoseleyBrown@va.gov.

Dated: March 26, 2024.
Jelessa M. Burney,
Federal Advisory Committee Management Officer.

[FR Doc. 2024-06767 Filed 3-29-24; 8:45 am]

BILLING CODE P